DEPARTMENT OF ENERGY

10 CFR Part 430

[Docket Number EERE-2011-BT-TP-0007]

RIN 1904-AC44

Energy Conservation Program for Consumer Products: Test Procedures for Residential Furnaces and Boilers (Standby Mode and Off Mode); Correction

AGENCY: Office of Energy Efficiency and Renewable Energy, U.S. Department of Energy.

ACTION: Notice of proposed rulemaking; correction.

SUMMARY: This notice corrects the ADDRESSES section of the notice of proposed rulemaking (NOPR) which published in the Federal Register on September 13, 2011, regarding the Energy Conservation Program for Consumer Products: Test Procedures for Residential Furnaces and Boilers. This correction provides the appropriate E-mail address whereby interested parties may submit comments.

FOR FURTHER INFORMATION CONTACT:

Mr. Mohammed Khan, U.S. Department of Energy, Office of Energy Efficiency and Renewable Energy, Building Technologies Program, EE-2J, 1000 Independence Avenue, SW., Washington, DC 20585-0121. Telephone: (202) 586-7892. E-mail: Mohammed.Khan@ee.doe.gov.

Mr. Eric Stas, U.S. Department of Energy, Office of the General Counsel, GC-71, 1000 Independence Avenue, SW., Washington, DC, 20585-0121. Telephone: (202) 586-5827. E-mail: Eric.Stas@hq.doe.gov.

Corrections

In FR Doc. 2011-23286, published in the Federal Register on September 13, 2011 (76 FR 56339) make the following correction in the ADDRESSES section, on page 56339, in the third column after “2. E-mail:” the e-mail address should read “FurnaceBoiler-IEC-2011-TP@ee.doe.gov”

Issued in Washington, DC, on September 29, 2011.
Kathleen B. Hogan,
Deputy Assistant Secretary for Energy Efficiency, Office of Technology Development, Energy Efficiency and Renewable Energy.

[FR Doc. 2011-25819 Filed 10-5-11; 8:45 am]

BILLING CODE 6450-01-P